DEPARTMENT OF THE INTERIOR

Bureau of Land Management

[NM-110-1610-DR]

Notice of Availability of Record of Decision for the Kasha-Katuwe Tent Rocks National Monument Resource Management Plan (RMP)

AGENCY: Bureau of Land Management, Interior.

ACTION: Notice of Availability.

SUMMARY: In accordance with the National Environmental Policy Act (NEPA), the Federal Land Policy and Management Act (FLPMA), the Bureau of Land Management (BLM) management policies and Presidential Proclamation 7394 signed on January 17, 2001, the BLM announces the availability of the Record of Decision (ROD)/Approved Resource Management Plan (RMP) for the Kasha-Katuwe Tent Rocks National Monument located in Sandoval County, New Mexico. The New Mexico State Director will sign the ROD approving the RMP which becomes effective immediately. The RMP provides for recreational use and facility development. The public has been provided opportunities to observe, study and experience the geologic processes that shape natural landscapes, as well as other cultural and biological objects of interest. The BLM has considered American Indian Uses and Traditional Cultural Practices, siting access and transportation to minimize intrusion on American Indian Use. Ecological and biological resource protection and enhancement have been provided.

ADDRESSES: Copies of the ROD/Approved RMP are available upon request from the Field Manager, Rio Puerco Field Office, Bureau of Land Management, 435 Montano NE., Albuquerque, NM 87107 or via the internet at (http://www.nm.blm.gov). Reference copies are available for review during regular business hours at BLM's Rio Puerco Field Office at the address above or at BLM's New Mexico State Office, 1474 Rodeo Road, Santa Fe, NM.

FOR FURTHER INFORMATION CONTACT: For further information visit the Web site at http://www.nm.blm.gov or contact: Danny Randall danny_randall@blm.gov or 505-761-8953), Manager, Kasha-Katuwe Tent Rocks National Monument, BLM Rio Puerco Field Office, 435 Montano NE., Albuquerque NM 87107.

SUPPLEMENTARY INFORMATION: The RMP ROD was developed with broad public and stakeholder participation through a 3-year collaborative planning process. The RMP ROD addresses management on approximately 15,635 acres. BLM currently manages 5,089 of these acres and has identified the other 10,546 acres as being desirable for acquisition, to be managed in conjunction with the Monument. The RMP ROD contains both land use planning decisions and implementation decisions to provide planning structure to facilitate the management of the Monument. Major resources and activities addressed in the RMP ROD include: American Indian Use and Traditional Cultural Practices; recreation; cultural resources; interpretation; facilities; lands and realty; access and transportation; vegetation management; and wildlife management.

The ROD selected Alternative B as the approved RMP. Except for editorial clarification and format, Alternative B was approved as it appeared when published as Alternative B (The Preferred Alternative) in the Proposed RMP/Final EIS in October 2006, with the NOA published in the Federal Register on November 24, 2006. BLM received one letter during the protest period on the Proposed RMP/FEIS; however, after careful consideration of all points raised in this letter, it was concluded that the letter did not constitute a valid protest. The BLM Director concluded that the responsible planning team and decision-makers followed all applicable laws, regulations, policies, and pertinent resource considerations in developing the proposed plan. No inconsistencies with State or local plans, policies or programs were identified during the Governor's consistency review of the Proposed RMP/Final EIS.

RMP implementation decisions are identified in Chapter 4 of the ROD RMP. As listed here: Access and Transportation pg. 2-5; American Indian Uses and Traditional Cultural Practices pg. 2-9; Cultural Resources pg. 2-11; Fire Management pg. 22-15; Lands and Realty pg. 2-18; Livestock Grazing pg. 2-21; Noxious Weed Management pg. 2-23; Public Land Health pg. 2-26; Recreational Use pg. 2-30; Riparian Areas pg. 2-33; Social and Economic Conditions pg. 2-35; Soil and Water Resources pg. 2-37; Special Geologic Features pg. 2-38; Special Status Species pg. 2-39; Vegetation and Woodlands Management pg. 2-42; Visual Resources pg. 2-43. Pursuant to 43 CFR 4.400 et seq., any party adversely affected by these decisions may appeal within 30 days of publication of this notice of availability per 43 CFR Part 4, Subpart E. The appeal should state the specific decisions as identified by resource or activity under the subheading `Implementation Decisions' in Chapter 4 of the approved RMP.

The appeal must be filed with the Rio Puerco Field Manager at the above listed address.

Linda S.C. Rundell,
State Director, New Mexico.

[FR Doc. E7-17492 Filed 9-6-07; 8:45 am]

BILLING CODE 4310-22-P